DEPARTMENT OF EDUCATION

Office of Special Education and Rehabilitative Services

AGENCY: Department of Education.

ACTION: Notice inviting applications for new awards for fiscal year (FY) 2003.

SUMMARY: The Assistant Secretary for Special Education and Rehabilitative Services invites applications for FY 2003 under the Special Education—Technical Assistance and Dissemination to Improve Services and Results for Children with Disabilities Program. This program is authorized under the Individuals with Disabilities Education Act (IDEA), as amended. This notice provides closing dates, a priority, and other information regarding the transmittal of applications.

Please note that important fiscal information is listed in a table at the end of this notice.

Waiver of Rulemaking

It is generally our practice to offer interested parties the opportunity to comment on proposed priorities. However, section 661(e)(2) of IDEA makes the public comment requirements in the Administrative Procedure Act (5 U.S.C. 553) inapplicable to the priority in this notice.

Purpose of Program: This program provides technical assistance and information that (1) support States and local entities in building capacity to improve early intervention, educational, and transitional services and results for children with disabilities and their families; and (2) address goals and priorities for changing State systems that provide early intervention, educational, and transitional services for children with disabilities and their families.

Eligible Applicants: State educational agencies (SEAs) of the 50 States, the District of Columbia, the Commonwealth of Puerto Rico, outlying areas and Freely Associated States that have not been awarded grants under this competition (84.326X) in previous years. Eligible applicants are listed in the chart at the end of this notice.

An entity eligible to apply for funding under section 661(b)(1) of IDEA may apply on behalf of an SEA, but the entity must include a signed letter of endorsement from the director of the SEA.

The Assistant Secretary does not fund an application submitted by two agencies or entities on behalf of a single State, but encourages a joint application from an SEA and a State lead agency for part C early intervention services in a State in which the SEA is not the State lead agency. An SEA may endorse the State lead agency as the State's applicant under the conditions in the Maximum Awards section of this notice.

Applications Available: April 18, 2003.

Deadline for Transmittal of Applications: June 2, 2003.

Deadline for Intergovernmental Review: August 1, 2003.

Estimated Available Funds: $7 million.

Estimated Range of Awards: The chart at the end of this notice lists the range for State basic grant awards for FY 2003.

Estimated Average Size of Awards: $465,000.

Maximum Awards: The chart at the end of this notice lists the amount of State basic grant awards for FY 2003. An applicant should note that it may apply for awards of differing amounts based on whether its application addresses (1) only the part B program; or (2) both the parts B and C programs.

The amounts for a State basic grant are based on the Office of Special Education Programs (OSEP) assessment that the minimal amounts necessary for a State to address only part B program needs and both parts B and C program needs are $120,000 and $200,000 respectively. Calculation of amounts above the minimum levels was based on the 85 percent population rate and 15 percent poverty rate used in the calculation of part B formula grant awards.

Outlying areas are eligible to receive $104,000 for addressing only part B and $130,000 for addressing both parts B and C.

A State may not propose a budget in its application for the basic grant award that exceeds the amounts in this notice.

We will reject any application that proposes a budget exceeding the maximum amount listed on the chart. The Assistant Secretary may reduce the grant award levels based on available funds.

Other Application Requirements

To be considered for a combined parts B and C award, a proposed project must describe in the application narrative (part III): (1) How the SEA and State lead agency participated in developing the application; and (2) how the project will use the funding to address the needs of both the parts B and C programs.

If an SEA endorses the State lead agency as the State's applicant, the proposed project must describe: (1) How the State lead agency and SEA collaborated to develop the application; and (2) how the State lead agency will use the award to address the needs of both the parts B and C programs (e.g., developing or enhancing a data system that tracks the transition of toddlers from part C to part B services).

Estimated Number of Awards: 15.

Note: The Department is not bound by any estimates in this notice.

Project Period: September 30, 2003—September 30, 2004.

Page Limits: If you are an applicant, part III of an application submitted under this notice, the application narrative, is where an applicant addresses the selection criteria that are used by reviewers in evaluating the application.

If your proposed project addresses only part B, you must limit part III to the equivalent of no more than 20 pages for a basic grant. If your proposed project addresses both part B and part C you must limit part III to the equivalent of no more than 30 pages. To determine the number of pages or the equivalent, you must use the following standards:

• A “page” is 8.5″ x 11″ (on one side only) with one-inch margins (top, bottom, and sides).

• Double-space (no more than three lines per vertical inch) all text in the application narrative, including titles, headings, footnotes, quotations, and captions, as well as all text in charts, tables, figures, and graphs.

• Use a font that is either 12-point or larger and no smaller than 10 pitch (characters per inch).

The page limit does not apply to part I, the cover sheet; part II, the budget section, including the narrative budget justification; part IV, the assurances and certifications; or the one-page abstract, the resumes, the bibliography or references, or the letters of support. However, you must include all of the application narrative in part III.

We will reject any application if—

• You apply these standards and exceed the page limit; or

• You apply other standards and exceed the equivalent of the page limit.

Additional Requirements

(a) The projects funded under this competition must make positive efforts to employ and advance in employment in project activities qualified individuals with disabilities (see section 606 of IDEA).

(b) Applicants and grant recipients under this competition must involve qualified individuals with disabilities or parents of individuals with disabilities in planning, implementing, and evaluating the projects (see section 661(f)(1)(A) of IDEA).

(c) The projects funded under this competition must budget for a two-day Project Directors' meeting in Washington, DC during each year of the project.

Application Procedures

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In FY 2003, the U.S. Department of Education is continuing to expand its pilot project of electronic submission of applications to include additional formula grant programs and additional discretionary grant competitions. The Special Education—Technical Assistance and Dissemination to Improve Services and Results for Children with Disabilities Program—CFDA #84.326X is one of the programs included in the pilot project. If you are an applicant under this program, you may submit your application to us in either electronic or paper format.

The pilot project involves the use of the Electronic Grant Application System (e-Application) portion of the Grant Administration and Payment System (GAPS). Users of e-Application will be entering data on-line while completing their applications. You may not e-mail a soft copy of a grant application to us. If you participate in this voluntary pilot project by submitting an application electronically, the data you enter on-line will be saved into a database. We request your participation in e-Application. We shall continue to evaluate its success and solicit suggestions for improvement.

If you participate in this e-Application pilot, please note the following:

• Your participation is voluntary.

• You will not receive any additional point value because you submit a grant application in electronic format, nor will we penalize you if you submit an application in paper format. When you enter the e-Application system, you will find information about its hours of operation.

• You may submit all documents electronically, including the Application for Federal Assistance (ED 424), Budget Information—Non-Construction Programs (ED 524), and all necessary assurances and certifications.

• After you electronically submit your application, you will receive an automatic acknowledgement, which will include a PR/Award number (an identifying number unique to your application).

• Within three working days of submitting your electronic application, fax a signed copy of the Application for Federal Assistance (ED 424) to the Application Control Center after following these steps:

(1) Print ED 424 from the e-Application system.

(2) The institution's Authorizing Representative must sign this form.

(3) Place the PR/Award number in the upper right hand corner of the hard copy signature page of the ED 424.

(4) Fax the signed ED 424 to the Application Control Center at (202) 260-1349.

• We may request that you give us original signatures on all other forms at a later date.

• Closing Date Extension in Case of System Unavailability: If you elect to participate in the e-Application pilot for The Special Education—Technical Assistance and Dissemination to Improve Services and Results for Children with Disabilities Program and you are prevented from submitting your application on the closing date because the e-Application system is unavailable, we will grant you an extension of one business day in order to transmit your application electronically, by mail or hand delivery. For us to grant this extension—

(1) You must be a registered user of e-Application, and have initiated an e-Application for this competition; and

(2)(a) The e-Application system must be unavailable for 60 minutes or more between the hours of 8:30 a.m. and 3:30 p.m., Washington, DC time, on the deadline date; or

(b) The e-Application system must be unavailable for any period of time during the last hour of operation (that is, for any period of time between 3:30 p.m. and 4:30 p.m., Washington, DC time) on the deadline date.

The Department must acknowledge and confirm these periods of unavailability before granting you an extension.

To request this extension you must contact either (1) the person listed elsewhere in this notice under FOR FURTHER INFORMATION CONTACT or (2) the e-GRANTS help desk at 1-888-336-8930.

You may access the electronic grant application for The Special Education—Technical Assistance and Dissemination to Improve Services and Results for Children with Disabilities Program at: http://e-grants.ed.gov.

We have included additional information about the e-Application pilot project (see Parity Guidelines between Paper and Electronic Applications) in the application package.

Applicable Regulations: (a) The Education Department General Administrative Regulations (EDGAR) in 34 CFR parts 74, 75, 77, 79, 80, 81, 82, 85, 86, 97, 98, and 99; (b) The selection criteria are drawn from the general selection criteria in 34 CFR 75.210. The specific selection criteria for this priority are included in the application package for this competition.

Note: The regulations in 34 CFR part 79 apply to all applicants except federally recognized Indian tribes.

Note: The regulations in 34 CFR part 86 apply to IHEs only.

Priority

Under section 685 of IDEA and 34 CFR 75.105(c)(3) we consider only applications that meet the following absolute priority:

Absolute Priority—IDEA General Supervision Enhancement Grant (84.326X)

Background

Over the past seven years, OSEP has worked with interested parties to modify its monitoring system in a way that will improve results for infants, toddlers, and children with disabilities, and their families. The interested parties OSEP has worked with have included SEAs, local educational agencies, parents and advocates. To ensure States' compliance with IDEA, OSEP has implemented a Continuous Improvement Focused Monitoring System (CIFMS). An in-depth explanation of CIFMS can be found at: http://dssc.org/frc/monitor.htm.

Since the implementation of CIFMS, SEAs and State lead agencies have endorsed the concept. All of the States have been involved in some phase of CIFMS. Many States have begun the difficult process of—

(1) Developing CIFMS systems at the State level;

(2) Supporting the development of CIFMS systems at the LEA level;

(3) Developing new data systems to support State and local CIFMS systems; and

(4) Developing or enhancing State systems to identify and disseminate research-based promising practices in education and early intervention.

Providing the States with some initial funds to support their participation in CIFMS, as well as to support unique State solutions and strategies developed in response to State-specific challenges identified through participation in CIFMS will reinforce OSEP's and the States' commitment to CIFMS.

Absolute Priority

To be funded under this priority, a project must address one or more of the following three focus areas.

Focus 1: Developing or Enhancing a Data System To Support the Needs of a CIFMS at the State or Local Level

Background

The collection and use of valid and reliable data are cornerstones of CIFMS. An analysis of State self-assessments has shown that many States, as well as their LEAs and local Part C agencies, lack the capacity to collect sufficient data to determine the impact of special education and early intervention services.

Focus

This focus supports the development or enhancement of a data system that is aligned with the data collection needs of CIFMS and that will provide information about one or more of the following:

(a) Appropriate early intervention services or special education and related services or both.

(b) The effectiveness of the monitoring system of the SEA or State lead agency or both.

(c) The effectiveness of interagency coordination.

(d) The effectiveness of the State's dispute resolution system.

(e) The effectiveness of the State's system to identify children's eligibility for part B or part C services or both.

(f) Personnel shortages, including information related to the retention of qualified teachers and service providers.

(g) The system for exercising the general supervisory authority of the SEA or State lead agency or both.

(h) Efforts to address family needs and enhance families' capacities to meet the developmental needs of their children.

(i) Early intervention services in the natural environment or special education and related services in the least restrictive environment or both.

(j) The transition from part C to part B services.

(k) The involvement of parents.

(l) Transition of youth with disabilities from school to work or postsecondary education, including graduation.

(m) Student achievement and participation and performance on assessments of students with disabilities.

Focus 2: Developing or Enhancing a Process to Conduct Activities To Plan Improvement Based on CIFMS

Background

The process of developing improvement plans is a critical component of CIFMS. If done properly, improvement planning will result in improved special education and related services and early intervention or both. OSEP's analysis of State improvement plans in response to OSEP monitoring reports has shown that many States lack a cohesive data-based approach to developing their improvement plans. Many States have had trouble identifying and addressing the systemic barriers, root causes or factors that contributed to the practice that the State or OSEP has determined needs improvement.

Focus

This focus supports the development or enhancement of a process for planning improvement. The process must be aligned with the improvement planning phase of CIFMS and should result in solutions that, for example —

(a) Identify underlying causes and/or systemic barriers to improved early intervention services or special education and related services or both;

(b) Address the root causes and/or systemic barriers to improved early intervention services or special education and related services or both;

(c) Include an evaluation component that assesses the impact of early intervention services or special education and related services or both;

(d) Include an evaluation component that assesses how changes in staff practice affect the provision of special education and related services or early intervention services or both;

(e) Are aligned or coordinated with the State's initiatives for general education reform; and

(f) Are consistent with and responsive to the findings of OSEP monitoring reports.

Focus 3: Developing or Enhancing State Systems To Identify, Disseminate, and Implement Promising Educational or Early Intervention Practices Based on Research

Background

OSEP has found that, to be fully effective, many improvement plans require a State technical assistance and dissemination structure to identify, disseminate, and implement promising educational or early intervention practices based on research. In many States this structure is either nonexistent or lacks sufficient resources to be effective.

Focus

This focus supports the development or enhancement of a statewide technical assistance system that is consistent with CIFMS that is aligned with the process for planning improvement and that addresses such areas as—

(a) Providing information about intervention and instructional practices based on research;

(b) Supporting the use of research-based approaches in instruction and the delivery of service in local schools and agencies;

(c) Serving as a conduit for the dissemination of research-based information among SEAs, State lead agencies, LEAs and Part C agencies, and national technical assistance centers; and

(d) Improving the efficiency of disseminating information by existing State technical assistance centers.

For Applications Contact: Education Publications Center (ED Pubs), P.O. Box 1398, Jessup, Maryland 20794-1398. Telephone (toll free): 1-877-4ED-Pubs (1-877-433-7827). FAX: 301-470-1244. If you use a telecommunications device for the deaf (TDD) you may call (toll free): 1-877-576-7734.

You may also contact ED Pubs at its Web site: http://www.ed.gov/pubs/edpubs.html, or you may contact ED Pubs at its e-mail address: edpubs@inet.ed.gov.

If you request an application from ED Pubs, be sure to identify this competition as follows: CFDA 84.326X.

FOR FURTHER INFORMATION CONTACT: The Grants and Contracts Services Team, U.S. Department of Education, 400 Maryland Avenue, SW., room 3317, Switzer Building, Washington, DC 20202-2550. Telephone: (202) 205-8207.

If you use a telecommunications device for the deaf (TDD), you may call the Federal Information Relay Service (FIRS) at 1-800-877-8339.

Individuals with disabilities may obtain this document in an alternative format (e.g., Braille, large print, audiotape, or computer diskette) on request to the Grants and Contracts Services Team under FOR FURTHER INFORMATION CONTACT. However, the Department is not able to reproduce in an alternative format the standard forms included in the application package.

Intergovernmental Review

The program in this notice is subject to the requirements of Executive Order 12372 and the regulations in 34 CFR part 79. One of the objectives of the Executive Order is to foster an intergovernmental partnership and a strengthened federalism. The Executive order relies on processes developed by State and local governments for coordination and review of proposed Federal financial assistance.

This document provides early notification of our specific plans and actions for this program.

Individuals With Disabilities Education Act Application Notice for Fiscal Year 2003
CFDA number, name of program and eligible applicants: 84.326X IDEA General Supervision Enhancement Grant | Maximum award for basic grants (per year): IDEA part B only (dollars) | Maximum award for basic grants (per year): IDEA parts B & C (dollars)
California | 1,204,108 | 1,498,815
Delaware | 180,315 | 288,420
Georgia | 437,899 | 586,475
Indiana | 311,574 | 444,932
Kentucky | 280,131 | 403,698
Louisiana | 329,535 | 458,181
Michigan | 486,570 | 641,313
Mississippi | 254,523 | 374,812
Missouri | 325,206 | 456,558
Nevada | 218,306 | 332,402
North Carolina | 407,088 | 551,843
North Dakota | 176,540 | 283,572
South Dakota | 181,360 | 289,049
Tennessee | 344,487 | 476,970
Texas | 944,500 | 1,177,426
Washington | 337,264 | 472,348
West Virginia | 209,835 | 321,817
Wisconsin | 327,120 | 455,911
Wyoming | 172,591 | 278,879
Virgin Islands | 104,000 | 130,000

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo/nara/index.html.

Program Authority: 20 U.S.C. 1485.

Dated: April 14, 2003.
Robert H. Pasternack,
Assistant Secretary for Special Education and Rehabilitative Services.

[FR Doc. 03-9540 Filed 4-17-03; 8:45 am]

BILLING CODE 4000-01-P